DEPARTMENT OF HOMELAND SECURITY

U. S. Customs and Border Protection

Notice Announcing the Automated Commercial Environment (ACE) Protest Module as the Sole CBP-Authorized Method for Filing Electronic Protests

AGENCY: U.S. Customs and Border Protection, Department of Homeland Security.

ACTION: General notice.

SUMMARY: This document announces that the Automated Commercial Environment (ACE) Protest Module will be the sole method authorized by the Commissioner of U.S. Customs and Border Protection (CBP) for filing electronic protests. This document also announces that CBP will no longer accept protests filed through the Automated Broker Interface (ABI) to the Automated Commercial System (ACS). Upon the effective date of this notice, ACE will replace ACS as the electronic data interchange system authorized for protest filing.

DATES: Effective August 29, 2016, the ACE Protest Module will be the sole CBP-authorized method for filing electronic protests.

FOR FURTHER INFORMATION CONTACT: For technical questions related to the ACE Protest Module, or to request an ACE Protest Account in the ACE Portal, contact your assigned client representative. Interested parties without an assigned client representative should direct their questions to Steven Zaccaro at steven.j.zaccaro@cbp.dhs.gov with the subject heading “ACE Protest Module.”

SUPPLEMENTARY INFORMATION:

Background

Statutory Authority

Section 514 of the Tariff Act of 1930, as amended (19 U.S.C. 1514), provides that certain decisions made by CBP can be protested within 180 days of the date of liquidation, i.e., the date on which CBP's decision becomes final. Section 645 of Subtitle B of Title VI of the North American Free Trade Agreement Implementation Act (Pub. L. 103-182, 107 Stat. 2057, December 8, 1993), commonly known as the Customs Modernization Act, or Mod Act, amended section 514(c)(1) of the Tariff Act of 1930 (19 U.S.C. 1514(c)(1)) to permit the transmission of such protests to CBP electronically pursuant to an electronic data interchange system.

Current Regulations

The CBP regulations governing protests are found in part 174 of Title 19 of the Code of Federal Regulations (19 CFR part 174).

On January 14, 2011, CBP published a Final Rule in the Federal Register (76 FR 2573) making technical corrections to part 174 and related provisions in Title 19 of the Code of Federal Regulations. The rule amended section 174.12(b) to conform to section 514(c)(1) of the Tariff Act of 1930, allowing a protest to be transmitted electronically, using the electronic data interchange system authorized by CBP for that purpose.

Currently, CBP accepts electronic protests submitted through the Automated Broker Interface (ABI) to the Automated Commercial System (ACS), the electronic data interchange system currently authorized by CBP for this purpose.

Transition From ACS to ACE

In an effort to modernize the business processes essential to securing U.S. borders, facilitating the flow of legitimate shipments, and targeting illicit goods pursuant to the Mod Act and the Security and Accountability for Every (SAFE) Port Act of 2006 (Pub. L. 109-347, 120 Stat. 1884), CBP developed the Automated Commercial Environment (ACE) to eventually replace ACS. Over the last several years, CBP has tested ACE and provided significant public outreach to ensure that the trade community is fully aware of the transition from ACS to ACE. CBP is now transitioning electronic protest filing from ACS to ACE. Upon the effective date of this notice, ACE will replace ACS as the electronic data interchange system authorized for protest filing.

ACE Protest Module as the Sole CBP-Authorized Method for the Filing of Electronic Protests

This notice announces that the ACE Protest Module will be the sole CBP-authorized method for filing electronic protests. Filers who intend to submit a protest electronically must use the ACE Protest Module. The ACE Protest Module is an internet-based processing module which allows a filer to submit an electronic protest to ACE for processing by CBP. Protest filings will no longer be accepted in ACS. This transition has no effect on filers who intend to submit their protest in paper form, as specified in 19 CFR part 174.

Dated: July 22, 2016.
R. Gil Kerlikowske,
Commissioner, U.S. Customs and Border Protection.

[FR Doc. 2016-17915 Filed 7-27-16; 8:45 am]

BILLING CODE 9111-14-P